DEPARTMENT OF AGRICULTURE

National Agricultural Statistics Service

Notice of Intent To Seek Reinstatement of an Information Collection

AGENCY: National Agricultural Statistics Service, USDA.

ACTION: Notice and request for comments.

SUMMARY: In accordance with the Paperwork Reduction Act of 1995, this notice announces the intention of the National Agricultural Statistics Service (NASS) to request approval for reinstatement and revision of an information collection, the Farm and Ranch Irrigation Survey. Revision to previous burden hours may be needed due to changes in the size of the target population, sampling design, and/or questionnaire length.

DATES: Comments on this notice must be received by May 12, 2008 to be assured of consideration.

ADDRESSES: You may submit comments, identified by docket number 0535-0234, by any of the following methods:

• E-mail: ombofficer@nass.usda.gov. Include docket number above in the subject line of the message.

• Fax: (202) 720-6396

• Mail: Mail any paper, disk, or CD-ROM submissions to: NASS Clearance Officer, U.S. Department of Agriculture, Room 5336A, Mail Stop 2024, South Building, 1400 Independence Avenue, SW., Washington, DC 20250-2024.

• Hand Delivery/Courier: Hand deliver to: NASS Clearance Officer, U.S. Department of Agriculture, Room 5336A, South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: Farm and Ranch Irrigation Survey.

OMB Control Number: 0535-0234.

Type of Request: Intent to Seek Approval to Reinstate and Revise an Information Collection.

Abstract: The Farm and Ranch Irrigation Survey is conducted every 5 years as authorized by the Census of Agriculture Act of 1997 (Pub. L. No. 105-113). The 2008 Farm and Ranch Irrigation Survey will use a probability sample of all farms and a sample of horticultural operations that reported irrigation on the 2007 Census of Agriculture. This irrigation survey for commodities other than horticultural specialties will provide a comprehensive inventory of farm irrigation practices with detailed data relating to acres irrigated by category of land use, acres and yields of irrigated and non-irrigated crops, quantity of water applied, and method of application to selected crops. Also included will be 2008 expenditures for maintenance and repair of irrigation equipment and facilities; purchase of energy for on-farm pumping of irrigation water; investment in irrigation equipment, facilities, and land improvement; cost of water received from off-farm water supplies; and questions related to water reuse and security. The irrigation survey for horticultural specialties will provide the land area irrigated and source of water by state, and the irrigation by method used by State. A new combined table will be published showing the total estimated quantity of water applied for crops including horticultural specialties. Irrigation data are used by the farmers, their representatives, government agencies, and many other groups concerned with the irrigation industry and water use issues. This survey will provide the only source of dependable, comparable irrigation data by State. NASS will use the information collected only for statistical purposes and will publish the data only as tabulated totals.

Authority: These data will be collected under the authority of 7 U.S.C. 2204(a). Individually identifiable data collected under this authority are governed by section 1770 of the Food Security Act of 1985, 7 U.S.C. 2276, which requires USDA to afford strict confidentiality to non-aggregated data provided by respondents. This Notice is submitted in accordance with the Paperwork Reduction Act of 1995 (Pub. L. 104-113) and Office of Management and Budget regulations at 5 CFR part 1320 (60 FR 44978, August 29, 1995).

Estimate of Burden: Public reporting burden for this collection of information is estimated to average 20 minutes per response.

Respondents: Farmers, Ranchers, Farm Managers, and producers of Nursery, Greenhouse and Floricultural Products.

Estimated Number of Respondents: 50,000.

Estimated Total Annual Burden on Respondents: 16,700 hours.

Copies of this information collection and related instructions can be obtained without charge from NASS Clearance Officer, at (202) 720-2248.

Comments Are Invited On: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, February 19, 2008.
Joseph T. Reilly,
Associate Administrator.

[FR Doc. E8-4987 Filed 3-12-08; 8:45 am]

BILLING CODE 3410-20-P